DEPARTMENT OF DEFENSE

Defense Contract Audit Agency

Privacy Act of 1974; Systems of Records

AGENCY: Defense Contract Audit Agency, DOD.

ACTION: Notice to delete and amend records systems.

SUMMARY: The Defense Contract Audit Agency is deleting a system of records notice and amending two notices in its inventory of record systems subject to the Privacy Act of 1974 (5 U.S.C. 552a), as amended.

DATES: The actions will be effective on February 11, 2002 unless comments are received that would result in a contrary determination.

ADDRESSES: Send comments to Senior Advisor, Defense Contract Audit Agency, Information and Privacy, CM, 8725 John J. Kingman Road, Suite 2135, Fort Belvoir, VA 22060-6219.

FOR FURTHER INFORMATION CONTACT: Mr. Dave Henshall at (703) 767-1005.

SUPPLEMENTARY INFORMATION: The Defense Contract Audit Agency notices for systems of records subject to the Privacy Act of 1974 (5 U.S.C. 552a), as amended, have been published in the Federal Register and are available from the address above.

The proposed action is not within the purview of subsection (r) of the Privacy Act (5 U.S.C. 552a), as amended, which would require the submission of a new or altered system report for each system.

January 4, 2002.
L.M. Bynum,
Alternate OSD Federal Register Liaison Officer, Department of Defense.

Deletion

RDCAA 152.17

System name:

Security Status Master List (November 20, 1997, 62 FR 62003).

Reason:

These records are no longer being collected or maintained by the Defense Contract Audit Agency.

Amendments

RDCAA 152.1

System name:

Security Information System (SIS) (May 18, 1999, 64 FR 26947).

Changes:

* * * * *

System name:

Delete entry and replace with ‘The Enhanced Access Management System (TEAMS)’.

* * * * *

RDCAA 152.1

System name:

The Enhanced Access Management System (TEAMS).

System location:

Security Office, Headquarters, Defense Contract Audit Agency, 8725 John J. Kingman Road, Suite 2135, Fort Belvoir, VA 22060-6219.

Categories of individuals covered by the system:

All DCAA employees.

Categories of records in the system:

Records contain name, Social Security Number, date and place of birth, citizenship, position sensitivity, accession date, type and number of DCAA identification, position number, organizational assignment, security adjudication, clearance, eligibility, and investigation data.

Authority for maintenance of the system:

5 U.S.C. 301, Departmental Regulations; E.O. 10450, Security Requirements for Government Employees, as amended; E.O. 12958, Classified National Security Information; and E.O. 9397 (SSN).

Purpose(s):

To provide the DCAA Security Office with a ready reference of security information on DCAA personnel.

To submit data on a regular basis to the Defense Clearance and Investigations Index (DCII).

To provide the DCAA Drug Program Coordinator with a listing of individuals who hold security clearances for the purpose of creating the drug testing pool, from which individuals are randomly chosen for drug testing.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of DCAA's compilation of systems of records notices apply to this system.

Policies and practices for storing, retrieving, accessing, retaining, and disposing of records in the system:

Storage:

Records are maintained in automated data systems.

Retrievability:

Records are retrieved by Social Security Number or name of employee.

Safeguards:

Automated records are protected by restricted access procedures. Records are accessible only to authorized personnel who are properly cleared and trained and who require access in connection with their official duties.

Retention and disposal:

Records are retained in the active file until an employee separates from the agency. At that time, records are moved to the inactive file, retained for five years, and then deleted from the system. Hard copy listings and tapes produced by this system are destroyed by burning.

System manager(s) and address:

Security Officer, Headquarters, Defense Contract Audit Agency, 8725 John J. Kingman Road, Suite 2135, Fort Belvoir, VA 22060-6219.

Notification procedure:

Individuals seeking to determine whether information about themselves is contained in this system should address written inquiries to the Security Office, Headquarters, Defense Contract Audit Agency, 8725 John J. Kingman Road, Suite 2135, Fort Belvoir, VA 22060-6219.

Individuals must furnish name, Social Security Number, and approximate date of their association with DCAA.

Record access procedures:

Individuals seeking access to information about themselves contained in this system should address written inquiries to the Security Office, Headquarters, Defense Contract Audit Agency, 8725 John J. Kingman Road, Suite 2135, Fort Belvoir, VA 22060-6219.

Individuals must furnish name, Social Security Number, and approximate date of their association with DCAA.

Contesting record procedures:

DCAA's rules for accessing records, for contesting contents and appealing initial agency determinations are published in DCAA Regulation 5410.10; 32 CFR part 317; or may be obtained from the system manager.

Record source categories:

Information, other than data obtained directly from individual employees, is obtained by DCAA Headquarters Security and Regional Office Personnel Divisions, and Federal Agencies.

Exemptions claimed for the system:

None.

RDCAA 590.8

System name:

DCAA Management Information System (FMIS/AMIS) (August 3, 2000, 65 FR 48221).

Changes:

* * * * *

System name:

Delete “(FMIS/AMIS)” from entry.

* * * * *

RDCAA 590.8

System name:

DCAA Management Information System (DMIS).

System location:

Defense Contract Audit Agency, Information Technology Division, 4075 Park Avenue, Memphis, TN 38111-7492.

Categories of individuals covered by the system:

DCAA employees and contractors.

Categories of records in the system:

Records relating to audit work performed in terms of hours expended by individual employees, dollar amounts audited, exceptions reported, and net savings to the government as a result of those exceptions; records containing contractor information; records containing reimbursable billing information; name, Social Security Number, pay grade and (optionally) address information.

Authority for maintenance of the system:

5 U.S.C. 301, Departmental Regulations and E.O. 9397 (SSN).

Purpose(s):

To provide managers and supervisors with timely, on-line information regarding audit requirements, programs, and performance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of DCAA's compilation of systems of records notices apply to this system.

Policies and practices for storing, retrieving, accessing, retaining, and disposing of records in the system:

Storage:

Records are maintained in an on-line database and on magnetic tape at secure offsite storage.

Retrievability:

Records are retrieved by organizational levels, name of employee, Social Security Number, office symbol, audit activity codes, or any other combination of these identifiers.

Safeguards:

Automated records are protected by restricted access procedures. Access to records is strictly limited to authorized officials with a bona fide need for the records.

Retention and disposal:

Records are retained indefinitely.

System manager(s) and address:

Chief, Information Technology Division, Defense Contract Audit Agency, 4075 Park Avenue, Memphis, TN 38111-7492.

Notification procedure:

Individuals seeking to determine whether information about themselves is contained in this system should address written inquiries to the Chief, Information Technology Division, Defense Contract Audit Agency, 4075 Park Avenue, Memphis, TN 38111-7492.

Individuals must furnish name, Social Security Number, approximate date of record, and geographic area in which consideration was requested for record to be located and identified. Official mailing addresses are published as an appendix to the DCAA's compilation of systems notices.

Record access procedures:

Individuals seeking access to information about themselves contained in this system should address written inquiries to the Chief, Information Technology Division, Defense Contract Audit Agency, 4075 Park Avenue, Memphis, TN 38111-7492.

Individuals must furnish name, Social Security Number, approximate date of record, and geographic area in which consideration was requested for record to be located and identified.

Contesting record procedures:

DCAA's rules for accessing records, for contesting contents and appealing initial agency determinations are published in DCAA Regulation 5410.10; 32 CFR part 317; or may be obtained from the system manager.

Record source categories:

Individual employees, supervisors, audit reports and working papers.

Exemptions claimed for the system:

None.

[FR Doc. 02-671 Filed 1-10-02; 8:45 am]

BILLING CODE 5001-08-P